DEPARTMENT OF AGRICULTURE

Forest Service

Bar T Bar and Anderson Springs Allotment Management Plan EIS Southwestern Region, AZ, Coconino County, Coconino National Forest

AGENCY: Forest Service, USDA.

ACTION: Correction to the Notice of Intent to Prepare an Environmental Impact Statement published on February 13, 2001, pages 10008-10010.

SUMMARY: The purpose of this correction is three fold: (1) To notify that there has been a change in the schedule from the original NOI that was published on February 13, 2001, on page 10008-10010 in the Federal Register; (2) to notify that the Responsible Official has been changed; and (3) contact information for this project has changed.

Schedule: The original target date for completion, as stated in the NOI published on February 13, 2001, on page 10008-10010 in the Federal Register, was July 2001. That date has now been changed to December 2004.

Responsible Official: The Responsible Official has changed from Jim Golden, Forest Supervisor of the Coconino National Forest to Larry G. Sears, Mogollon Rim District Ranger and Terri Marceron, Mormon Lake District Ranger of the Coconino National Forest.

FOR FURTHER INFORMATION CONTACT: The project contact was Beth Humphrey and is now Carol Holland, Project Leader, (928) 477-2255, e-mail cjholland@fs.fed.us.

Dated: September 10, 2004.
Joseph P. Stringer,
Deputy Forest Supervisor.

[FR Doc. 04-20990 Filed 9-16-04; 8:45 am]

BILLING CODE 3410-11-M